DEPARTMENT OF THE INTERIOR

Bureau of Indian Affairs

[178A2100DD/AAKC001030/A0A501010.999900 253G]

Guidelines for Implementing the Indian Child Welfare Act

AGENCY: Bureau of Indian Affairs, Interior.

ACTION: Notice of availability.

SUMMARY: This notice announces the availability of the Department's new Guidelines for Implementing the Indian Child Welfare Act. These guidelines are intended to assist those involved in child custody proceedings in understanding and uniformly applying the Indian Child Welfare Act (ICWA) and the Department's regulations. All such parties—including the courts, State child welfare agencies, private adoption agencies, Tribes, and family members—have a stake in ensuring the proper implementation of this important Federal law designed to protect Indian children, their parents, and Indian tribes.

ADDRESSES: The guidelines are available at: http://bia.gov/WhoWeAre/BIA/OIS/HumanServices/IndianChildWelfareAct/index.htm. You can also reach this Web page by going to www.bia.gov and clicking the “Indian Child Welfare Act” icon on the right-hand side of the page.

FOR FURTHER INFORMATION CONTACT: For information on implementation of these guidelines, please contact Ms. Debra Burton, ICWA Specialist, Bureau of Indian Affairs, U.S. Department of the Interior, 1849 C Street NW., MS 3642, Washington, DC 20240, (202) 513-7610; debra.burton@bia.gov. For information regarding the development of these guidelines, please contact Ms. Elizabeth Appel, Office of Regulatory Affairs & Collaborative Action—Indian Affairs, U.S. Department of the Interior, 1849 C Street NW., MS 3642, Washington, DC 20240, (202) 273-4680; elizabeth.appel@bia.gov.

SUPPLEMENTARY INFORMATION: The ICWA is a statute passed by Congress and codified in the United States Code (U.S.C.) at 25 U.S.C. 1901 et seq. The Department promulgated ICWA regulations to implement the statute; the regulations were published in the Federal Register at 81 FR 38778 (June 14, 2016) and will be codified in the Code of Federal Regulations (CFR) at 25 CFR part 23.

The Department is now issuing Guidelines for Implementing the Indian Child Welfare Act to complement the regulations. While not imposing binding requirements, the guidelines provide a reference and resource for all parties involved in child custody proceedings involving Indian children. The guidelines explain the statute and regulations and also provide examples of best practices for the implementation of the statute, with the goal of encouraging greater uniformity in the application of ICWA. The guidelines replace the 1979 and 2015 versions of the Department's guidelines.

The Department encourages all involved in child custody proceedings who seek to understand and uniformly apply ICWA and the Department's regulations to review the guidelines, which are available at the Web page listed in the ADDRESSES section of this notice.

Dated: December 16, 2016.
Lawrence S. Roberts,
Principal Deputy Assistant Secretary—Indian Affairs.

[FR Doc. 2016-31726 Filed 12-29-16; 8:45 am]

BILLING CODE 4337-15-P